FEDERAL COMMUNICATIONS COMMISSION

47 CFR Part 73

[DA 04-245; MM Docket No. 02-199; RM-10514]

Radio Broadcasting Services; Magnolia, AR and Oil City, LA

AGENCY: Federal Communications Commission.

ACTION: Final rule, petition for reconsideration.

SUMMARY: This document denies a petition for reconsideration filed by Access.1 Communications-Shreveport, LLC seeking reconsideration of the Report and Order in this proceeding. See 68 FR 27940 May 22, 2003. The petition for reconsideration was opposed by Columbia Broadcasting Company, Inc. licensee of Station KVMA-FM, Magnolia, Arkansas. We find that this document is not subject to the requirements of Congressional Review Act because it denies the petition for reconsideration filed by Access.1 Communications-Shreveport, LLC.

FOR FURTHER INFORMATION CONTACT: Victoria M. McCauley, Media Bureau, (202) 418-2180.

SUPPLEMENTARY INFORMATION: This is a synopsis of the Commission's Memorandum Opinion and Order in MM Docket No. 02-199, adopted January 29, 2004, and released January 30, 2004. The full text of this decision is available for inspection and copying during normal business hours in the FCC's Reference Information Center at Portals II, CY-A257, 445 12th Street, SW., Washington, DC. The complete text of this decision may also be purchased from the Commission's copy contractor, Qualex International, Portals ll, 445 12th Street, SW., Room CY-B402, Washington, DC 20554, telephone 202-863-2893, facsimile 202-863-2898, or via e-mail qualexint@aol.com.

Federal Communications Commission.
John A. Karousos,
Assistant Chief, Audio Division, Media Bureau.

[FR Doc. 04-3961 Filed 2-23-04; 8:45 am]

BILLING CODE 6712-01-P